NUCLEAR REGULATORY COMMISSION

[Docket No. 50-391]

Tennessee Valley Authority; Watts Bar Nuclear Plant, Unit 2, Environmental Assessment and Finding of No Significant Impact

The U.S. Nuclear Regulatory Commission (NRC) is considering issuance of an extension of the latest construction completion dates specified in Construction Permit No. CPPR-92 issued to Tennessee Valley Authority (permittee, TVA) for the Watts Bar Nuclear Plant (WBN), Unit 2. The facility is located at the permittee's site on the west branch of the Tennessee River approximately 50 miles northeast of Chattanooga, Tennessee.

Environmental Assessment

Identification of Proposed Action

The proposed action would extend the latest construction completion date of Construction Permit No. CPPR-92 to December 31, 2010. The proposed action is in response to the permittee's request dated October 13, 1999, as supplemented by letter dated July 14, 2000.

The Need for the Proposed Action

The proposed action is needed to grant the licensee the option of completing construction on WBN Unit 2 in the future. The construction permit expired in December 1999. The permittee requested the extension for Unit 2 due to the delay in the completion of Unit 1 and TVA's decision to maintain Unit 2 in a construction layup status pending TVA's determination of further options to meet future electric power demands.

Environmental Impacts of the Proposed Action

The environmental impacts associated with the construction of the facility have been previously discussed and evaluated in TVA's Final Environmental Statement for construction (FES-CP) of WBN, Units 1 and 2, issued on November 9, 1972. NRC staff evaluated the environmental impacts of construction and operation of this plant, issuing comments on TVA's FES-CP as part of its review. In December 1978, NRC staff issued a Final Environmental Statement for the operating-license stage (FES-OL), which addressed the environmental impacts of construction activities not addressed previously in TVA's FES-CP. The activities included: (1) Construction of the transmission route for the Watts Bar—Volunteer 500 kV line; (2) construction of the settling pond for siltation control for construction runoff at a different location from that originally proposed in the FES-CP; and (3) the relocation of the blowdown diffuser from the originally proposed site indicated in the FES-CP. The staff addressed the terrestrial and aquatic environmental impacts in the FES-OL, as well as historic and archeological impacts, and concluded that the assessment presented in the FES-CP remains valid.

A supplemental Final Environmental Statement related to the operation of WBN Units 1 and 2 was issued in April 1995. Environmental issues evaluated included changes to regional demography, natural resource use, meteorology, ecology, impacts to humans and the environment, and socioeconomic impacts, including environmental justice issues. The staff concluded that there were no significant changes to the environmental impacts discussed in the 1978 FES-OL due to changes in plant design or operation, or changes in the environment. Furthermore, the staff concluded that no additional impacts not previously discussed in the NRC's 1978 FES-OL related to construction of Unit 2 were expected.

Since the NRC's latest review, all candidate species have been removed and the bald eagle delisted from the Federal threatened and endangered species list issued by the Fish and Wildlife Service. The licensee has no plans to construct additional transmission lines or disturb any land that has not been discussed in previous environmental reviews. Socioeconomic impacts were evaluated in the supplement to the FES-OL issued in 1995. No additional impacts are expected.

The construction of Unit 2 is approximately 65 percent complete; therefore, most of the construction impacts discussed in the FES have already occurred. This action would only extend the period of construction as described in the FES. It does not involve any different impacts as described and analyzed in the original and updated environmental impact statements. The proposed extension will not allow any work to be performed that is not already allowed by the existing construction permit. The extension will merely grant the permittee more time to complete construction and modification in accordance with the previously approved construction permit.

Based on the foregoing, the NRC staff has concluded that the proposed action would have no significant environmental impact. Since this action would only extend the period of construction activities described in the FES, it does not involve any different impacts or a significant change to those impacts described and analyzed in the original environmental impact statement. Consequently, an environmental impact statement addressing the proposed action is not required.

Alternatives to the Proposed Action

A possible alternative to the proposed action would be to deny the request, or the no-action alternative. This would result in expiration of the construction permit for Watts Bar, Unit 2. This option would require submittal of another application for construction in order to allow the permittee to complete construction of the facility with no significant environmental benefit. The environmental impacts of the proposed action and alternative action are similar.

Alternative Use of Resources

This action does not involve the use of resources not previously considered in the FES for Watts Bar.

Agencies and Persons Contacted

In accordance with its stated policy, on October 2, 2000, the staff consulted with the Tennessee State Official, Ms. Joel Key, regarding the environmental impact of the proposed action. The State official had no comments.

Finding of No Significant Impact

On the basis of the environmental assessment, the NRC concludes that this action will not have a significant effect on the quality of the human environment. Accordingly, the NRC has determined not to prepare an environmental impact statement for this action.

For further details with respect to this action, see the licensee's request for extension dated October 13, 1999, as supplemented July 14, 2000. Documents may be examined, and/or copied for a fee, at the NRC's Public Document Room, located at One White Flint North, 11555 Rockville Pike (first floor), Rockville, Maryland. Publicly available records will be accessible electronically from the ADAMS Public Library component on the NRC Web site, http://www.nrc.gov (the Electronic Reading Room).

Dated at Rockville, Maryland this 3rd day of October 2000.
For the Nuclear Regulatory Commission.
Richard P. Correia,
Chief, Section 2, Project Directorate II, Division of Licensing Project Management, Office of Nuclear Reactor Regulation

[FR Doc. 00-25915 Filed 10-6-00; 8:45 am]

BILLING CODE 7590-01-U